DEPARTMENT OF COMMERCE

International Trade Administration

15 CFR Part 301

Instruments and Apparatus for Educational and Scientific Institutions

CFR Correction

In Title 15 of the Code of Federal Regulations, Parts 300 to 799, revised as of January 1, 2015, on page 10, in § 301.2, in paragraph (o), remove the term “, x-ray spectrometer” in both places it appears.

[FR Doc. 2015-28281 Filed 11-5-15; 8:45 am]

BILLING CODE 1505-01-D